DEPARTMENT OF THE INTERIOR

Bureau of Land Management

[NM-050-1430; NMNM 95118]

Public Land Order No. 7498; Withdrawal of Public Land for the Sawtooth Area of Critical Environmental Concern; New Mexico

AGENCY: Bureau of Land Management, Interior.

ACTION: Public land order.

SUMMARY: This order withdraws 116.12 acres of public land from location and entry under the United States Mining laws for a period of 25 years for the Bureau of Land Management to protect the federally listed Zuni Fleabane within the Sawtooth Area of Critical Environmental Concern.

EFFECTIVE DATE: October 9, 2001.

FOR FURTHER INFORMATION CONTACT: Lois Bell, BLM Socorro Field Office, 198 Neel Ave, NW, Socorro, New Mexico 87801, 505-835-0412.

SUPPLEMENTARY INFORMATION: By virtue of the authority vested in the Secretary of the Interior by section 204 of the Federal Land Policy and Management Act of 1976, 43 U.S.C. 1714 (1994), it is ordered as follows:

1. Subject to valid existing rights, the following described public land is hereby withdrawn from location and entry under the United States mining laws (30 U.S.C. Ch. 2 (1994)), to protect and preserve a population of Zuni Fleabane, Erigeron rhizomatus, and its habitat within the Sawtooth Area of Critical Environmental Concern:

New Mexico Principal Meridian

T. 1 N., R. 11 W.,

Sec. 6, lot 7, SE¼SW¼, and SW¼SE¼.

The area described contains 116.12 acres in Catron County.

2. This withdrawal will expire 25 years from the effective date of this order unless, as a result of a review conducted before the expiration date pursuant to section 204(f) of the Federal Land Policy and Management Act of 1976, 43 U.S.C. 1714(f) (1994), the Secretary determines that the withdrawal shall be extended.

Dated: August 15, 2001.
J. Steven Griles,
Deputy Secretary.

[FR Doc. 01-25193 Filed 10-5-01; 8:45 am]

BILLING CODE 4310-MW-P